DEPARTMENT OF THE INTERIOR

Bureau of Land Management

[BLM_NV_FRN_MO#4500180231]

Establishment and Call for Nominations for the Avi Kwa Ame National Monument Advisory Committee

AGENCY: Bureau of Land Management, Interior.

ACTION: Notice.

SUMMARY: The Bureau of Land Management (BLM) is publishing this notice in accordance with the Federal Land Policy and Management Act (FLPMA), the Federal Advisory Committee Act (FACA), and Presidential Proclamation 10533, “Establishment of the Avi Kwa Ame National Monument”. The BLM gives notice that the Secretary of the Interior is establishing the Avi Kwa Ame National Monument Advisory Committee (MAC) and is seeking nominations for individuals to be considered as MAC members.

DATES: Comments regarding the establishment of this MAC must be submitted no later than August 14, 2024. All nominations must be received no later than August 29, 2024.

ADDRESSES: Nominations for the MAC should be sent to the BLM office listed in the FOR FURTHER INFORMATION CONTACT section of this notice.

FOR FURTHER INFORMATION CONTACT: Kirsten Cannon, Public Affairs Specialist, Southern Nevada District, 4701 North Torrey Pines, Las Vegas, Nevada 89130; phone: (702) 515-5057; email: k1cannon@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: Presidential Proclamation 10533 directs the Secretary of the Interior to establish and maintain an advisory committee under FACA (5 U.S.C. ch. 10) with the specific purpose of providing information and advice regarding the development of the management plan and management of the monument. The MAC is established in accordance with section 309 of FLPMA, as amended (43 U.S.C. 1739). The BLM is subject to standards and procedures for the creation, operation, and termination of BLM resource advisory councils found at 43 CFR 1784 subpart 1787 and the Federal Advisory Committee regulations found at 41 CFR part 102-3.

The MAC will consist of 15 representatives to be appointed by the Secretary of the Interior as follows:

1. Eight representatives of Tribal Nations with historical connection to the lands within the Monument;

2. A representative of developed outdoor recreation activities;

3. A representative of dispersed recreational activities, including hunting or wildlife organizations;

4. A representative of the conservation community;

5. A representative of the scientific community;

6. A representative of local business owners;

7. A representative of local governmental entities; and

8. A representative of local citizens.

Representatives will be appointed to the MAC to serve three-year staggered terms.

Nomination Information: Nominations should include a resume providing an adequate description of the nominee's qualifications, including information that would enable the Department of the Interior to make an informed decision regarding the membership requirements of the MAC and permit the Department of the Interior to contact a potential member. Nominees are strongly encouraged to include supporting letters from employers, associations, professional organizations, and/or other organizations that indicate support by a meaningful constituency for the nominee. Nominees should indicate any BLM permits, leases, or licenses that you hold personally or are held by your employer. Members of the MAC serve without compensation. However, while away from their homes or regular places of business, members engaged in MAC business may be allowed travel expenses, including per diem in lieu of subsistence, as authorized by 5 U.S.C. 5703, in the same manner as persons employed intermittently in Federal Government service.

The MAC will meet approximately two to four times annually, and at such other times as designated by the Designated Federal Officer.

Simultaneous with this notice, the BLM will issue a press releases providing additional information for submitting nominations.

Public Disclosure of Comments: Before including your address, phone number, email address, or other personally identifiable information (PII) in your comment, you should be aware that your entire comment—including your PII—may be made publicly available at any time. While you may ask us in your comment to withhold your PII from public review, we cannot guarantee that we will be able to do so.

(Authority: 43 CFR 1784.4-1)

Deb Haaland,
Secretary of the Interior.

[FR Doc. 2024-16562 Filed 7-29-24; 8:45 am]

BILLING CODE 4331-21-P